GENERAL SERVICES ADMINISTRATION

[OMB Control No. 3090-0204]

Submission for OMB Review; Comment Request Entitled Commercial Delivery Schedule Clause and Notice of Shipment

AGENCY: Office of Acquisition Policy, GSA.

ACTION: Notice of an emergency reinstatement and request for extension of the reinstated collection (3090-0204).

SUMMARY: Under the provisions of the Paperwork Reduction Act of 1995 (44 U.S.C. Chapter 35), the General Services Administration, Office of Acquisition Policy requested on June 25, 2001 that the Office of Management and Budget (OMB) reinstate an information collection requirement concerning the Commercial Delivery Schedule (Multiple Award Schedule) clause and the Notice of Shipment clause. OMB reinstated the collection on July 20, 2001. Information collected under this authority is not otherwise required by regulation. This notice indicates GSA's intent to request an extension by 3 years of OMB's emergency reinstatement of this collection and to request public review and comment on the collection.

DATES: Comment Due Date: October 15, 2001.

ADDRESSES: Comments regarding this burden estimate or any other aspect of this collection of information, including suggestions for reducing this burden, should be submitted to: Ed Springer, GSA Desk Officer, OMB, Room 10236, NEOB, Washington, DC 20503, and a copy to Stephanie Morris, General Services Administration, Acquisition Policy Division, 1800 F Street, NW., Room 4035, Washington, DC 20405.

FOR FURTHER INFORMATION CONTACT: Beverly Cromer, Office of GSA Acquisition Policy (202) 208-6750.

SUPPLEMENTARY INFORMATION:

A. Purpose

The GSA is requesting the Office of Management and Budget (OMB) to reinstate information collection, 3090-0204, concerning the Commercial Delivery Schedule (Multiple Award Schedule) clause. The Commercial Delivery Schedule (Multiple Award Schedule) clause required offerors to provide their commercial delivery terms and conditions. FSS awards contracts to commercial firms under terms and conditions that mirror commercial practices for the supplies and services. In order to ensure the Government obtains the supplies within the offeror's commercial delivery timeframe, the offeror must provide the information requested in the clause, Commercial Delivery Schedule (Multiple Award Schedule).

The GSA is requesting the Office of Management and Budget (OMB) to reinstate information collection, 3090-0204, concerning the Notice of Shipment clause. A Notice of Shipment clause is used when it is in the Government's interest to have a supply contractor furnish a notice of shipment. Such a notice is necessary when preparations need to be made for docking arrangements, storage, trans-shipment of materials handling equipment of supplies and equipment upon delivery, labor and inside delivery at destination.

B. Annual Reporting Burden

Number of Respondents: 4109.

Total Annual Responses: 10,305.

Total Burden Hours: 2669.

Obtaining Copies of Proposals: Requester may obtain a copy of the proposal from the General Services Administration, Regulatory Secretariat (MVP), 1800 F Street, NW., Room 4035, Washington, DC 20405, telephone (202) 501-4755. Please cite OMB Control No. 3090-0204, Commercial Delivery Schedule (Mulitple Award Schedule) clause and Notice of Shipment clause.

Dated: August 9, 2001.
David A. Drabkin,
Deputy Associate Administrator, Acquisition Policy Division.

[FR Doc. 01-20485 Filed 8-14-01; 8:45 am]

BILLING CODE 6820-61-P